DEPARTMENT OF ENERGY

Federal Energy Regulatory Commission

Combined Notice of Filings #1

Take notice that the Commission received the following electric rate filings:

Docket Numbers:ER10-2564-000.

Applicants: Tucson Electric Power Company.

Description: Tucson Electric Power Company Refund Report to be effective N/A.

Filed Date: 1/2/14.

Accession Number: 20140102-5223.

Comments Due: 5 p.m. ET 1/23/14.

Docket Numbers:ER10-2609-006; ER10-2604-004; ER10-2603-004; ER10-2602-007; ER10-2606-006.

Applicants: Escanaba Paper Company, Luke Paper Company, Rumford Paper Company, NewPage Energy Services, LLC, Consolidated Water Power Company.

Description: Notice of Change in Status of the NewPage MBR Companies.

Filed Date: 1/2/14.

Accession Number: 20140102-5297.

Comments Due: 5 p.m. ET 1/23/14.

Docket Numbers:ER14-728-001.

Applicants: CalEnergy, LLC.

Description: Amendment to MBR Tariff to be effective 1/3/2014.

Filed Date: 1/2/14.

Accession Number: 20140102-5172.

Comments Due: 5 p.m. ET 1/23/14.

Docket Numbers:ER14-730-001.

Applicants: CE Leathers Company.

Description: Amendment to MBR Tariff to be effective 1/3/2014.

Filed Date: 1/2/14.

Accession Number: 20140102-5178.

Comments Due: 5 p.m. ET 1/23/14.

Docket Numbers:ER14-732-001.

Applicants: Elmore Company.

Description: Amendment to MBR Tariff to be effective 1/3/2014.

Filed Date: 1/2/14.

Accession Number: 20140102-5186.

Comments Due: 5 p.m. ET 1/23/14.

Docket Numbers:ER14-733-001.

Applicants: Fish Lake Power LLC.

Description: Amendment to MBR Tariff to be effective 1/3/2014.

Filed Date: 1/2/14.

Accession Number: 20140102-5187.

Comments Due: 5 p.m. ET 1/23/14.

Docket Numbers:ER14-734-001.

Applicants: Salton Sea Power L.L.C.

Description: Amendment to MBR Tariff to be effective 1/3/2014.

Filed Date: 1/2/14.

Accession Number: 20140102-5191.

Comments Due: 5 p.m. ET 1/23/14.

Docket Numbers:ER14-735-001.

Applicants: Salton Sea Power Generation Company.

Description: Amendment to MBR Tariff to be effective 1/3/2014.

Filed Date: 1/2/14.

Accession Number: 20140102-5194.

Comments Due: 5 p.m. ET 1/23/14.

Docket Numbers:ER14-736-001.

Applicants: Saranac Power Partners, L.P.

Description: Amendment to MBR Tariff to be effective 1/3/2014.

Filed Date: 1/2/14.

Accession Number: 20140102-5198.

Comments Due: 5 p.m. ET 1/23/14.

Docket Numbers:ER14-737-001.

Applicants: Vulcan/BN Geothermal Power Company.

Description: Amendment to MBR Tariff to be effective 1/3/2014.

Filed Date: 1/2/14.

Accession Number: 20140102-5202.

Comments Due: 5 p.m. ET 1/23/14.

Docket Numbers:ER14-738-001.

Applicants: Yuma Cogeneration Associates.

Description: Amendment to MBR Tariff to be effective 1/3/2014.

Filed Date: 1/2/14.

Accession Number: 20140102-5203.

Comments Due: 5 p.m. ET 1/23/14.

Docket Numbers:ER14-743-001.

Applicants: Bishop Hill Energy II LLC.

Description: Amendment to MBR Tariffs to be effective 1/3/2014.

Filed Date: 1/2/14.

Accession Number: 20140102-5162.

Comments Due: 5 p.m. ET 1/23/14.

Docket Numbers:ER14-745-001.

Applicants: Cordova Energy Company LLC.

Description: Amendment to MBR Tariff to be effective 1/3/2014.

Filed Date: 1/2/14.

Accession Number: 20140102-5164.

Comments Due: 5 p.m. ET 1/23/14.

Docket Numbers:ER14-747-001.

Applicants: Pinyon Pines Wind I, LLC.

Description: Amendment to MBR Tariff to be effective 1/3/2014.

Filed Date: 1/2/14.

Accession Number: 20140102-5167.

Comments Due: 5 p.m. ET 1/23/14.

Docket Numbers:ER14-748-001.

Applicants: Pinyon Pines Wind II, LLC.

Description: Amendment to MBR Tariff to be effective 1/3/2014.

Filed Date: 1/2/14.

Accession Number: 20140102-5168.

Comments Due: 5 p.m. ET 1/23/14.

Docket Numbers:ER14-751-001.

Applicants: Solar Star California XIX, LLC.

Description: Amendment to MBR Tariff to be effective 1/3/2014.

Filed Date: 1/2/14.

Accession Number: 20140102-5169.

Comments Due: 5 p.m. ET 1/23/14.

Docket Numbers:ER14-753-001.

Applicants: Solar Star California XX, LLC.

Description: Amendment to MBR Tariff to be effective 1/3/2014.

Filed Date: 1/2/14.

Accession Number: 20140102-5170.

Comments Due: 5 p.m. ET 1/23/14.

Docket Numbers:ER14-755-001.

Applicants: Topaz Solar Farms LLC.

Description: Amendment to MBR Tariff to be effective 1/3/2014.

Filed Date: 1/2/14.

Accession Number: 20140102-5171.

Comments Due: 5 p.m. ET 1/23/14.

Docket Numbers:ER14-771-001.

Applicants: Power Resources, Ltd.

Description: Amendment to MBR Tariff to be effective 1/3/2014.

Filed Date: 1/2/14.

Accession Number: 20140102-5189.

Comments Due: 5 p.m. ET 1/23/14.

Docket Numbers:ER14-929-001.

Applicants: PacifiCorp.

Description: PAC Energy NITSA Rev 17 Errata Filing to be effective 3/1/2014.

Filed Date: 1/3/14.

Accession Number: 20140103-5051.

Comments Due: 5 p.m. ET 1/24/14.

Docket Numbers:ER14-946-000.

Applicants: Del Ranch Company.

Description: Amendment to MBR Tariff to be effective 1/3/2014.

Filed Date: 1/2/14.

Accession Number: 20140102-5179.

Comments Due: 5 p.m. ET 1/23/14.

Docket Numbers:ER14-947-000.

Applicants: Syracuse Energy Corporation.

Description: Notice of Cancellation to be effective 1/3/2014.

Filed Date: 1/2/14.

Accession Number: 20140102-5224.

Comments Due: 5 p.m. ET 1/23/14.

Docket Numbers:ER14-948-000.

Applicants: PJM Interconnection, L.L.C.

Description: Queue No. Q65; First Revised Service Agreements Nos. 3045 and 3046 to be effective 12/4/2013.

Filed Date: 1/3/14.

Accession Number: 20140103-5004.

Comments Due: 5 p.m. ET 1/24/14.

Docket Numbers:ER14-949-000.

Applicants: PJM Interconnection, L.L.C.

Description: Notice of Cancellation of Original Service Agreement No. 3066; Queue No. W3-126 to be effective 12/24/2014.

Filed Date: 1/3/14.

Accession Number: 20140103-5011.

Comments Due: 5 p.m. ET 1/24/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 3, 2014.
Nathaniel J. Davis, Sr.,
Deputy Secretary.

[FR Doc. 2014-00426 Filed 1-13-14; 8:45 am]

BILLING CODE 6717-01-P